ENVIRONMENTAL PROTECTION AGENCY

40 CFR Part 52

[EPA-R03-OAR-2018-0277; FRL-9981-70—Region 3]

Approval and Promulgation of Air Quality Implementation Plans; Pennsylvania; Removal of Department of Environmental Protection Gasoline Volatility Requirements for the Pittsburgh-Beaver Valley Area; Withdrawal of Direct Final Rule

AGENCY: Environmental Protection Agency (EPA).

ACTION: Withdrawal of direct final rule.

SUMMARY: Due to receipt of adverse comment, the Environmental Protection Agency (EPA) is withdrawing the direct final rule published on June 15, 2018, to approve a revision to the Commonwealth of Pennsylvania state implementation plan (SIP) requesting removal of Pennsylvania requirements limiting summertime gasoline volatility to 7.8 pounds per square inch (psi) Reid Vapor Pressure (RVP) to address nonattainment under the 1-hour ozone national ambient air quality standard (NAAQS) in the Pittsburgh-Beaver Valley ozone nonattainment area (hereafter Pittsburgh-Beaver Valley Area).

DATES: The direct final rule published at 83 FR 27901 on June 15, 2018, is withdrawn effective August 6, 2018.

FOR FURTHER INFORMATION CONTACT: Brian Rehn, Office of Air Program Planning, Air Protection Division, U.S. Environmental Protection Agency, Region 3, 1650 Arch Street, Philadelphia, PA 19103. Brian Rehn can be reached via telephone at (215) 814-2176 or via electronic mail at rehn.brian@epa.gov.

SUPPLEMENTARY INFORMATION: Please see the information provided in the direct final action published in the Federal Register on June 15, 2018 (83 FR 27901) and in the companion proposed rule which was also published on June 15, 2018 (83 FR 27910).

In those actions, EPA proposed to approve a May 2, 2018 SIP revision from Pennsylvania to remove Pennsylvania Department of Environmental Protection (PADEP) requirements for summertime low volatility gasoline (as codified at 25 Pa. Code Chapter 126, Subchapter C) from the Pennsylvania SIP. EPA's June 15, 2018 direct final action served to approve the Commonwealth's supporting analysis, submitted to EPA on May 2, 2018, which demonstrates that removal of the Pittsburgh-Beaver Valley Area low RVP gasoline program does not interfere with the Commonwealth's ability to attain or maintain any NAAQS in the Pittsburgh-Beaver Valley Area. Removal of PADEP volatility requirements would leave in place federal gasoline volatility requirements, as well as separate Allegheny County low-RVP requirements adopted by the Allegheny County Health Department (ACHD) and approved by EPA as a separate part of the Pennsylvania SIP.

In the direct final rule published on June 15, 2018 (83 FR 27901), EPA stated that if we received adverse comments on our action the rule would be withdrawn and would not take effect. EPA subsequently received adverse comments. EPA will address the comments received on our proposed action to remove the PADEP low RVP gasoline requirements from the Pennsylvania SIP in a subsequent final action based upon the proposed action also published on June 15, 2018 (83 FR 27910). EPA will not institute a second comment period on this action.

List of Subjects in 40 CFR Part 52

Environmental protection, Air pollution control, Carbon monoxide, Incorporation by reference, Intergovernmental relations, Nitrogen dioxide, Ozone, Particulate matter, Reporting and recordkeeping requirements, Volatile organic compounds.

Dated: July 24, 2018.
Cecil Rodrigues,
Acting Regional Administrator, Region III.

Accordingly, the amendment to 40 CFR 52.2020(c)(1), published on June 15, 2018 (83 FR 27901), is withdrawn effective August 6, 2018.

[FR Doc. 2018-16604 Filed 8-3-18; 8:45 am]

BILLING CODE 6560-50-P